DEPARTMENT OF HOUSING AND URBAN DEVELOPMENT

[Docket No. FR-4563-N-15]

Notice of Proposed Information Collection for Public Comment; Police Department Accreditation Under the Public Housing Drug Elimination Program (PHDEP)

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 27, 2000.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Police Department Accreditation under the PHDEP.

OMB Control Number: 2577-0124.

Description of the need for the information and proposed use: Public Housing Agencies (PHAs) that intend to use PHDEP funds to support their police activities must be accredited by their State accreditation program, if one exist, or receive accreditation nationally from the Commission on Accreditation for Law Enforcement Agencies (CALEA). New and existing PHA police departments who have not been approved and want to use PHDEP funds for police services must submit a letter and supporting documents to HUD for approval.

Agency form number: None.

Members of affected public: State or Local government.

Estimation of the total number of hours needed to prepare the information collection including number of respondents, frequency of response, and hours of response: 13 PHA police departments are currently established, accreditation certification/letter, 25 minutes per response, total burden hours 3.25; HUD expects that no more than seven new PHA police departments will be established. Seven responses, annually, two hours per response, total burden hours 14. Total reporting burden for new and established PHA police departments will be 17.25 hours.

Status of the proposed information collection: Revision.

Authority: Section 3506 of the Paperwork Reduction Act of 1995, 44 U.S.C. Chapter 35, as amended.

Dated: September 19, 2000.
Harold Lucas,
Assistant Secretary for Public and Indian Housing.

[FR Doc. 00-24614 Filed 9-25-00; 8:45 am]

BILLING CODE 4210-33-M